DEPARTMENT OF COMMERCE

Census Bureau

Proposed Information Collection; Comment Request; 2010 Census Integrated Communication Program Evaluation

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 4, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument(s) and instructions should be directed to Donna Souders, Bureau of the Census, HQ-3H470A, Washington DC; (301) 763-1810 (or via the Internet at Donna.M.Souders@census.gov).

SUPPLEMENTARY INFORMATION:

I. Abstract

The Census Bureau will conduct the 2010 Census Program for Evaluations and Experiments (CPEX) to evaluate the current census and to build a foundation on which to make early and informed decisions for planning the next census in 2020. Program planners designed CPEX to measure the effectiveness of the 2010 Census design (including operations, systems, and processes), in addition to determining how the design impacts data quality. The intent of this public notice is to present the plan for and to invite comments on one CPEX project: The 2010 Census Integrated Communication Program (ICP) Evaluation.

In September 2007, the Census Bureau contracted the services of Draftfcb, Inc., a marketing communications agency, to create, produce and implement an integrated marketing and communications campaign in support of the 2010 Census. The contract, known as the 2010 Census Integrated Communication Campaign (ICC), was awarded as an Indefinite Delivery—Indefinite Quantity (IDIQ), multiple-year contract (one 12-month base year and three 12-month option years), with an estimated value of $207 million.

The 2010 Census ICC is the second time that the decennial census has involved a paid advertising campaign. Evaluations of the Census 2000 paid advertising campaign indicated that the effort contributed to increasing mail returns of census forms, thereby reducing costs of the Non-Response Follow-Up operation. The 2010 Census ICC contract is a major public expenditure and has great potential to affect the quality and overall cost of the 2010 Census. For these reasons, a rigorous and independent evaluation of the 2010 Census ICC is essential for assessing the success of the 2010 Census and planning for the 2020 Census.

The 2010 Census ICC also includes partnerships, the Census in Schools effort, and other related outreach programs and activities to the public. The Census Bureau partnership campaign involves the Census Bureau partnering with state and local organizations, including churches and social organizations, to help U.S. residents learn about the Census, and be encouraged to participate by people they trust rather than the government collecting the data. The Census in Schools campaign is an effort to reach families through their school-age children.

In the fall of 2008, after an open competition, the Census Bureau awarded a contract to the National Opinion Research Center (NORC) at the University of Chicago to conduct an evaluation of the 2010 Census ICC. NORC is tasked with conducting an independent evaluation of the integrated marketing communication campaign to determine if the campaign is achieving its goals. The purpose of the evaluation is to assess the impact of the entire campaign in addition to determining the contribution of each of its components: Paid media/advertising, partnerships, the Census in Schools program, and related outreach to the public. NORC has developed an evaluation strategy to determine if the following three goals were achieved by the 2010 Census ICC.

(1) Increased mail response;

(2) Reduced differential undercount; and

(3) Improved cooperation with enumerators.

NORC's evaluation of the effectiveness of the overall campaign also involves assessing the extent to which the campaign moves people toward the goal of responding to the census. This may consist of measuring the effectiveness of specific messages for target audiences, measuring increases in awareness of the census and changes in attitudes toward the census (survey research), and measuring changes in intention to return the census form and actual return of the form (survey research; modeling). These are general measures of effectiveness, and when used together, provide a good indicator of how well a campaign does in support of the overall objectives.

NORC's evaluation will objectively measure whether campaign strategies and tactics were effective in raising awareness, changing attitudes and/or beliefs, and influencing behavior. In assessing the overall effectiveness of the campaign, NORC will also identify and measure the impact of key phenomena pertaining to the 2010 Census, but outside the scope of the official ICP. This includes acknowledgement and measurement of breaking events.

Finally, NORC will compare the knowledge, attitudes, and beliefs about the Census held by Americans before, during, and after the 2010 Census ICC implementation with those held at similar points in time relative to the Census 2000.

Populations of Interest: The Census Bureau and Draftfcb have identified two classifications of the U.S. population that undergird much of the design and implementation of the 2010 Census ICC. These two classifications figure prominently in the sample design and analysis plan for the 2010 Census ICP Evaluation. First, the Census Bureau has identified five race/ethnicity populations of particular priority in census outreach efforts. These are: Black Africans and African-Americans, Hispanics of any race, Native Hawaiians and other Pacific Islanders, American Indians and Alaska Natives, and Asians. In addition, Draftfcb and the Census Bureau have devised an audience segmentation that classifies all census tracts in the United States into one of eight segments that share similar socioeconomic and other demographic characteristics as well as propensity to complete the census form. The eight audience segments are: Advantaged Homeowners, All Around Average I, All Around Average II, Economically Disadvantaged, Ethnic Enclave I, Single Unattached Mobiles, Economically Disadvantaged II, and Ethnic Enclave II. The audience segments provide the basis for 2010 Census ICC decisions regarding resources, media selection, and tailored messages.

Evaluation Design

NORC's proposed evaluation design involves the following key elements: conduct surveys of the general public based on probability methods that combine cross-sectional, time-series samples with longitudinal samples to maximize the statistical power of cross-sectional estimates and change over time and in response to 2010 Census ICC efforts. NORC will conduct hybrid (cross-sectional/longitudinal) surveys with probability samples of United States households, oversampling minority populations and other target segments, at three points in time—[Wave 1] during the earliest phases of partnership activity, in mid-2009 to assess baseline levels of all measures of public attention and intentions that will be the focus of the 2010 Census ICC; [Wave 2] during the expected peak of 2010 Census ICC activity from January through May 2010; and [Wave 3] during the post mailout period from May through August 2010.

Exposure to components of the 2010 Census ICC will be estimated using several data sources in addition to survey data. These data sources will permit exploration of relationships between intensity of campaign activity and changes in awareness, attitudes, and intentions among the general public and key population subgroups. Data sources will include ratings and impressions data for the paid advertising campaign, and the Census Bureau's Integrated Campaign Partnership Database (ICPD) data for measuring partnership activity. NORC also plans to merge actual data on household participation in the 2010 Census with the survey records of households in the 2010 Census ICP Evaluation survey sample for a more detailed and accurate record of households' census participation, including mailback status, cooperation with enumerators, and other indicators of census actions regarding these households' 2010 participation. Each of these alternative data sources will be essential in corroborating, triangulating with, or providing alternative measures of exposure to the self-reported campaign exposure measures collected through surveys.

NORC will collaborate with Census Bureau staff to compile aggregate-level data on the 2010 Census ICC effort and Census results to analyze the relationships between measures of planned and actual 2010 Census ICC activity (by component) and aggregate Census participation results (mail response, enumerator response, non-response) in 1990, 2000, and 2010 to identify trends over time in target segments and for hard-to-count areas.

To improve the ability of the NORC design to detect a relationship between campaign exposure and response, there will also be `observational case-control studies.' In these studies, additional cases will be added in geographical areas selected as matched pairs. These pairs will be similar on socio-demographic and psychosocial characteristics but may be likely to experience planned or unplanned variations in the implementation of 2010 Census ICC components. The pairs will be determined during the course of the 2010 Census ICP Evaluation using evidence gathered from Draftfcb strategy and implementation, Waves 1 and 2 data from this evaluation, as well as the ancillary data mentioned above. The objective is to compare public exposure to the persuasive messages delivered through 2010 Census ICC components and to measure the resulting differential impact (if any), improving the clarity of the evidence for 2010 Census ICC effects.

Combining and interpreting results from multiple analytical approaches will improve the capacity of the design to answer the key evaluation questions concerning the impact of the 2010 Census ICC and its components, and the return on investment of 2010 Census ICC resources with respect to the three primary outcomes of interest. As needed, qualitative data collection may further inform or illuminate puzzles within the analysis activity.

Sample Selection

The 2010 Census ICP Evaluation data collection plan calls for 3,000 cases each in Waves 1 and 2, and 4,200 cases in Wave 3. Approximately 1,500 cases in each of Waves 2 and 3 will come from a longitudinal panel of Wave 1 cases, while the remaining cases in the Wave will be selected for the first time.

In Waves 1 and 2, equal numbers of cases will come from each of the five race/ethnicity populations and the remaining non-targeted group. The sample size of 500 per race/ethnicity group used in the 2000 Partnership and Marketing Program Evaluation (PMPE), the analogous evaluation from the 2000 Census, resulted in design effects around 2.0 and standard errors of 3.2 percent (on a binary proportion of 50 percent). The same sample sizes are planned for the 2010 Census ICP Evaluation. For Wave 3, the sample size will grow to 900 for each of the three largest race/ethnicity groups (non-targeted, non-Hispanic Black African and African-American, Hispanic of any race). This will not only decrease the standard errors for this wave, but will also permit selection of additional respondents into the sample to support the observational study design described above.

The three largest race/ethnicity groups will be fielded together as a core sample from a nationally representative sample of households selected using NORC's 2000 National Frame. The three additional samples are of sufficiently rare populations that they must be selected separately.

Three Supplemental Samples

For the remaining three race/ethnicity populations, manipulating the tracts and segments selected will not be sufficient to meet the target sample sizes. Therefore, NORC will have to field independent samples. Asian and Native Hawaiian samples can be drawn from addresses in NORC's National Frame, but American Indian/Alaska Native reservation samples will require fresh listing.

American Indians/Alaska Native (AIAN)

According to the 2000 Census, there were 3,420,171 persons living in the United States that were non-Hispanic and AIAN (alone or in combination with another race), and 998,199 living on the 651 U.S. reservations (29.3 percent of the AIAN population). For cost-efficiency, NORC will select Waves 1, 2, and 3 samples from 20 reservations out of the 283 reservations with at least 250 AIANs.

Asians

According to the 2000 Census, there were 11,266,934 persons in the United States that were non-Hispanic and Asian (alone or in combination with another race). Of these, 17.0 percent live in the five U.S. cities with the largest Asian populations, and 29.3 percent live in the 40 cities with the largest Asian populations that also satisfy a density of 10 percent. NORC will select Waves 1, 2, and 3 samples from 40 cities within its National Frame (some, like Fremont, CA, are not the central city for a metropolitan statistical area).

Native Hawaiian and Pacific Islander (NHOPI)

According to the 2000 Census, there were 860,965 persons living in the United States who were non-Hispanic and NHOPI (alone or in combination with another race). Of these persons, 32.8 percent live in the state of Hawaii, and 23.32 percent of Hawaii residents are NHOPI; less than 1 percent of residents are NHOPI in all other states. The state with the largest NHOPI population outside of Hawaii is California, which contains 25.4 percent of U.S. NHOPIs, but only 0.64 percent of California residents are NHOPI. The state with the next largest NHOPI population is Washington, which has 4.8 percent of U.S. NHOPIs, but only 0.70 percent of Washington residents are NHOPI. NORC will select Waves 1, 2, and 3 samples from all five counties in Hawaii.

The Census Bureau is discussing the sampling strategies for these three supplemental samples with NORC and may propose an alternative approach.

Analysis

The 2010 Census ICP Evaluation questionnaires will cover such topics as: Demographics; general media use and other activities that might lead to exposure to the 2010 Census ICC; knowledge, attitudes, and beliefs about the Census; intent to participate; actions taken upon receipt of the Census form or interactions with Census enumerators (depending on the timing of the wave); and self-reported exposure to 2010 Census ICC activities, including unaided and aided awareness and confirmed recall questions.

Analyses will include cross-sectional examinations of each wave's data independently, as well as repeated cross-section and longitudinal analyses across waves. By incorporating various other data sources, NORC will be able to estimate campaign evaluation-style models for assessing the impact of various components of the 2010 Census ICC. Analyses will focus on the general public, the five hard-to-enumerate groups, and the eight audience segments. For each of these sub-populations, NORC will discuss the various research questions described above.

II. Method of Collection

Pre-Testing of Survey Instruments

At least 75 percent of the questionnaire items for all three waves' instruments have previously been administered in national surveys cleared by Office of Management and Budget (OMB). Chiefly, the source instruments are from the 2000 PMPE and the Census Barriers, Attitudes, and Motivations Survey (fielded in 2008, by Macro International Inc. for DraftFCB). Additional pre-testing of the proposed instruments will be conducted under the generic OMB clearance provided to the Census Bureau for CPEX data collection. All three draft questionnaires will be pre-tested using cognitive interviewing techniques and then for accuracy of timing estimates. Convenience sample respondents will be recruited from the general public, the five hard-to-enumerate populations identified as priorities by the Census Bureau, and the eight `audience segments' defined at the census-tract level.

A key tool for improved quality of self-reported media exposure data is the use of confirmed recall items in which respondents are not only asked to report on ad viewing, but also on the details of the ad content. This question type will be of great value in the Waves 2 and 3 questionnaires, when the paid advertising campaign will be in full swing. Final advertisements will not be developed, however, until closer to the time of campaign implementation. Specific questionnaire items will be developed and pre-tested after final advertisements are available for review. Templates of these question formats will be submitted with the original OMB package, but specific questions will be submitted to OMB for review after the formal clearance process has been completed.

Survey Schedule

Three surveys are proposed:

Wave [dates] | Sample size and composition | Comments
1 [Summer/Fall 2009] | 3,000 evenly distributed across 6 race/ethnic groups
2 [January 10-May 15, 2010] | 3,000 evenly distributed across 6 race/ethnic groups | 1,500 cases (evenly distributed across race/ethnic groups) who completed Wave 1 as well.
3 [May 15-August 31, 2010] | 4,200, of which 3,000 evenly distributed across 6 race/ethnic groups | + 1,500 cases (evenly distributed across race/ethnic groups) who completed Wave 1 (and possibly Wave 2) as well. + 1,200 cases in selected sites for `observational case control'.

Mixed-Mode Data Collection

NORC will employ an address-based sampling design that marries the comprehensive coverage of address lists with the cost effectiveness of telephone data collection. Through telephone number matching services and advance letter requests to sampled addresses, NORC will begin the data collection effort by telephone, expecting to obtain phone numbers for approximately 60 percent of the selected sample. Cases will then also be solicited for web completion, or completion by mail and by paper-and-pencil Self-Administered Questionnaire. A sub-sample of all cases not completed will be fielded in-person. Telephone interviewing will make use of Computer-Assisted Telephone Interviewing technologies, while in-person data collection will make use of paper and pencil questionnaires. Telephone and in-person data collection will be conducted in the languages of the 2010 census form: English, Spanish, Chinese, Korean, Vietnamese and Russian.

III. Data

OMB Control Number: None.

Form Number: To be determined.

Type of Review: Regular submission.

Affected Public: Households.

Estimated Number of Respondents: 7,200.

Estimated Time per Response: 30 minutes.

Estimated Total Annual Burden Hours: 5,100.

2009: 1,500 hours (Wave 1).

2010: 3,600 hours (Waves 2 and 3).

Estimated Total Annual Cost: $0.

Respondent's Obligation: Voluntary.

Legal Authority: Title 13 U.S.C. 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 25, 2009.
Gwellnar Banks,
Management Analyst, Office of the Chief Information Officer.

[FR Doc. E9-4380 Filed 3-2-09; 8:45 am]

BILLING CODE 3510-07-P